DEPARTMENT OF HEALTH AND HUMAN SERVICES

Office of the Secretary

Center for Faith-Based and Neighborhood Partnerships; Office of Health Reform Statement of Organization, Functions, and Delegations of Authority

Part A, Office of the Secretary, Statement of Organization, Functions, and Delegations of Authority for the Department of Health and Human Services (HHS), as last amended at 75 FR 20364-5, dated April 19, 2010, and Chapter AA, Immediate Office of the Secretary, as last amended at 75 FR 20364-5, dated April 19, 2010, are being amended to establish two new chapters, Chapter AAE, “Office of Health Reform (AAE),” and Chapter AW, “Center for Faith-Based and Neighborhood Partnerships,” in the Office of the Secretary. The changes are as follows:

I. Under Part A, Chapter AA, Section AA.10 Organization, after “The Secretary (AA),” insert the following: “Office of Health Reform (AAE).”

II. Under Part A, Chapter AA, Section AA.10 Organization, insert the following: “Center for Faith-Based and Neighborhood Partnerships (AW).”

III. Under chapter AA, establish a new chapter AAE, “Office of Health Reform,” to read as follows:

Chapter AAE, Office of Health Reform

AAE.00 Mission

AAE.10 Organization

AAE.20 Functions

AAE.00 Mission. The Office of Health Reform shall direct and coordinate the Department of Health and Human Services' (HHS') efforts to implement the health reform legislation and reform the health care system.

AAE.10 Organization. The Office of Health Reform is headed by a Director who reports to the Secretary and who serves as the Secretary's principal advisor on HHS' activities relating to health reform implementation.

AAE.20 Functions. The Office of Health Reform's responsibilities include: (1) Coordinating and liaising with the White House on health reform implementation matters; (2) serving as a representative, on behalf of the Secretary and HHS, to other Federal agencies in matters related to health reform; and (3) coordinating with HHS' Operating and Staff Divisions, as well as other Federal agencies, in developing and implementing a comprehensive health reform plan.

IV. Under Part A, establish a new Chapter AW, “Center for Faith-Based and Neighborhood Partnerships” to read as follows:

Chapter AW, Center for Faith-Based and Neighborhood Partnerships.

AW.00 Mission

AW.10 Organization

AW.20 Functions

AW.00 Mission. The Center for Faith-Based and Neighborhood Partnerships (CFBNP) coordinates the Department of Health and Human Services' (HHS') efforts to support partnerships between HHS and faith and community-based nonprofit organizations in health care and human services sectors in order to better serve people and communities.

AW.10 Organization. CFBNP is headed by a Director, appointed by the Secretary in consultation with the White House Office of Faith-Based and Neighborhood Partnerships, who reports to the Secretary and who serves as the Secretary's principal advisor on HHS' activities relating to faith-based and neighborhood partnership activities.

AW.20 Functions. CFBNP engages and communicates with the grassroots, ensuring that local institutions that hold community trust have up-to-date information regarding health and human service activities and resources in their area. CFBNP also works to enable community and faith-based organizations to partner with the government through both non-fiduciary and fiduciary partnerships to achieve both HHS' and the President's goals for the Faith-based and Neighborhood Partnership Initiative, which include: strengthening the role of community organizations in the economic recovery and poverty reduction; reducing unintended pregnancies and supporting maternal and child health; promoting responsible fatherhood and healthy families; and fostering interfaith dialogue and collaboration with leaders and scholars around the world and at home.

Dated: June 22, 2010.
E.J. Holland, Jr.,
Assistant Secretary for Administration.

[FR Doc. 2010-15858 Filed 6-29-10; 8:45 am]

BILLING CODE 4150-24-P